EQUAL EMPLOYMENT OPPORTUNITY COMMISSION

Agency Information Collection Activities: Proposed Collection; Comments Request

AGENCY: Equal Employment Opportunity Commission.

ACTION: Notice of information collection—extension without change: Local Union Report (EEO-3).

SUMMARY: In accordance with the Paperwork Reduction Act, the Equal Employment Opportunity Commission (EEOC or Commission) announces that it intends to submit to the Office of Management and Budget (OMB) a request for a three-year extension without change of the Local Union Report (EEO-3) (Form 274). Pending OMB approval of an emergency extension request, to be effective after the current September 30, 2016 expiration date, a regular clearance request for OMB review and approval of a three-year extension of the EEO-3 Report is beginning.

DATES: Written comments on this notice must be submitted on or before November 14, 2016.

ADDRESSES: Comments should be sent to Bernadette Wilson, Acting Executive Officer, Executive Secretariat, Equal Employment Opportunity Commission, 131 M Street NE., Washington, DC 20507. As a convenience to commenters, the Executive Secretariat will accept comments totaling six or fewer pages by facsimile (“FAX”) machine. This limitation is necessary to assure access to the equipment. The telephone number of the fax receiver is (202) 663-4114. (This is not a toll-free number.) Receipt of FAX transmittals will not be acknowledged, except that the sender may request confirmation of receipt by calling the Executive Secretariat staff at (202) 663-4070 (voice) or (202) 663-4074 (TTD). (These are not toll-free telephone numbers.) Instead of sending written comments to EEOC, you may submit comments and attachments electronically at http://www.regulations.gov, which is the Federal eRulemaking Portal. Follow the instructions online for submitting comments. All comments received through this portal will be posted without change, including any personal information you provide, except as noted below. The EEOC reserves the right to refrain from posting libelous or otherwise inappropriate comments including those that contain obscene, indecent, or profane language; that contain threats or defamatory statements; that contain hate speech directed at race, color, sex, national origin, age, religion, disability, or genetic information; or that promote or endorse services or products. All comments received, including any personal information provided, also will be available for public inspection during normal business hours by appointment only at the EEOC Headquarters' Library, 131 M Street NE., Washington, DC 20507. Upon request, individuals who require assistance viewing comments will be provided appropriate aids such as readers or print magnifiers. To schedule an appointment, contact EEOC Library staff at (202) 663-4630 (voice) or (202) 663-4641 (TTY). (These are not toll-free numbers.)

FOR FURTHER INFORMATION CONTACT: Ronald Edwards, Director, Program Research and Surveys Division, Equal Employment Opportunity Commission, 131 M Street NE., Room 4SW30F, Washington, DC 20507; (202) 663-4958 (voice) or (202) 663-7063 (TTY). Requests for this notice in an alternative format should be made to the Office of Communications and Legislative Affairs at (202) 663-4191 (voice) or (202) 663-4494 (TTY).

SUPPLEMENTARY INFORMATION: Pursuant to the Paperwork Reduction Act of 1995, 44 U.S.C. chapter 35, and OMB regulation 5 CFR 1320.8(d)(1), the Commission solicits public comment to enable it to:

(1) Evaluate whether the proposed collection of information is necessary for the proper performance of the Commission's functions, including whether the information will have practical utility;

(2) Evaluate the accuracy of the Commission's estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of Information Collection

Collection Title: Local Union Report (EEO-3).

OMB Number: 3046-0006.

Frequency of Report: Biennial.

Type of Respondent: Local referral unions with 100 or more members.

Description of Affected Public: Local referral unions and independent or unaffiliated referral unions and similar labor organizations.

Responses: 1,036.

Biennial Reporting Hours: 2,123.8.

Biennial Burden Hour Cost: $87,588.10.

Biennial Federal Cost: $81,935.

Number of Forms: 1.

Form Number: EEOC Form 274.

Abstract: Section 709(c) of title VII of the Civil Rights Act of 1964, as amended, 42 U.S.C. 2000e-8(c), requires labor organizations to make and keep records relevant to a determination of whether unlawful employment practices have been or are being committed and to produce reports from the data. The EEOC issued regulations requiring local referral unions with 100 or more members to submit EEO-3 reports. The individual reports are confidential. The EEOC uses EEO-3 data to investigate charges of discrimination and for research.

Burden Statement: The EEOC has updated its methodology for calculating annual burden to reflect the different staff that are responsible for preparing and filing the EEO-3. The EEOC now accounts for time to be spent biennially on EEO-3 reporting by business agents and administrative staff, as well as time spent by attorneys who, in a few cases, may consult briefly during the reporting process. The estimated number of respondents included in the biennial EEO-3 survey is 1,036 referral unions, as this is the number of filers from the 2014 reporting cycle. The estimated hour burden per report will be 2.05 hours, and the estimated total biennial respondent burden hours will be 2,123.8. Burden hour cost was calculated using median hourly wage rates for administrative staff and legal counsel, and average hourly wage rates for labor union business agents.¹ The burden hour cost per report will be $84.54, and the estimated total biennial burden hour cost will be $87,588.10. (See Table 1 for calculations.)

¹ Median hourly wage rates for administrative staff and legal counsel were obtained from the Bureau of Labor Statistics (see U.S. Dept. of Labor, Bureau of Labor Statistics, Occupational Outlook Handbook, http://www/bls.gov/ooh/) and the average hourly wage rate for a labor union business agent was obtained from salaryexpert.com (see https://www.salaryexpert.com/salarysurveydata/job=labor-union-business-agent/salary).

Table 1—Updated Estimate of Burden for EEO-3 Report
Local referral union staff | Hourly wage rate | Hours per local | Cost per local | Total burden hours | Total burden hour cost
Secretaries and administrative assistants | $17.55 | 1 | $17.55 | 1036 | $18,181.80
Business agent | 64.21 | 1 | 64.21 | 1036 | 66,521.56
Corporate legal counsel | 55.69 | 0.05 | 2.7845 | 51.8 | 2,884.74
Total |  | 2.05 | 84.5445 | 2,123.8 | 87,588.10

These estimates are based on an assumption of paper reporting. However, the EEOC has made electronic filing much easier for respondents required to file the EEO-3 Report. As a result, more respondents are using this filing method. This development, along with the greater availability of human resource information software, is expected to significantly reduce the actual burden of reporting. The Commission continues to develop more reliable estimates of reporting burdens given the significant increase in electronic filing and explore new approaches to make such reporting even less burdensome. In order to help reduce survey burden, respondents are encouraged to report data electronically whenever possible.

Dated: September 2, 2016.
For the Commission.
Jenny R. Yang,
Chair.

[FR Doc. 2016-21892 Filed 9-12-16; 8:45 am]

BILLING CODE 6570-01-P